NATIONAL SCIENCE FOUNDATION

Advisory Committee for Geosciences; Notice of Meeting

In accordance with the Federal Advisory Committee Act (Pub. L. 92-463, as amended), the National Science Foundation announces the following meeting:

Name: Advisory Committee for Geosciences (1755).

Dates: April 24-26, 2002.

Time: 10:00 a.m.-5:30 p.m. Wednesday, April 24, 2002. 8:30 a.m.-5:30 p.m. Thursday, April 25, 2002, 8:30 a.m.-3:00 p.m. Friday, April 26, 2002.

Place: National Science Foundation, 4201 Wilson Boulevard, Suite 1235 Arlington, VA 22230.

Type of Meeting: Open.

Contact Person: Dr. Thomas Spence, Directorate for Geosciences, National Science Foundation, Suite 705, 4201 Wilson Boulevard, Arlington, Virginia 22230, Phone 703-292-8500.

Minutes: May be obtained from the contact person listed above.

Purpose of Meeting: To provide advice, recommendations, and oversight concerning support for research, education, and human resources development in the geosciences.

Agenda

Day 1: Education and Diversity Subcommittee Meeting, Division Subcommittee Meetings.

Day 2: Directorate activities and plans, Education, Human Resources, and Diversity.

Day 3: Information Exchange, GPRA.

Dated: April 2, 2002.
Susanne Bolton,
Committee Management Officer.

[FR Doc. 02-8256 Filed 4-4-02; 8:45 am]

BILLING CODE 7555-01-M